DEPARTMENT OF TRANSPORTATION

Federal Highway Administration

Notice of Availability of the Final Environmental Impact Statement and Record of Decision for the I-15; Farmington to Salt Lake City Project in Utah and Final Federal Agency Actions

AGENCY: Federal Highway Administration (FHWA), Department of Transportation.

ACTION: Notice of availability and notice of limitations on claims for judicial review of actions by UDOT and other Federal agencies.

SUMMARY: The FHWA, on behalf of UDOT, is issuing this notice to announce the availability of the combined Final Environmental Impact Statement (EIS) and Record of Decision (ROD) for the I-15; Farmington to Salt Lake City project, in Davis and Salt Lake Counties, Utah. In addition, this notice is being issued to announce actions taken by UDOT that are final Federal agency actions related to the project referenced above. Those actions grant licenses, permits and/or approvals for the project. The ROD provides details on the Selected Alternative for the proposed improvements.

DATES: This decision became operative on October 3, 2024. By this notice, FHWA, on behalf of UDOT, is advising the public of final agency actions subject to 23 U.S.C. 139(l)(1). A claim seeking judicial review of the Federal agency actions on the highway project will be barred unless the claim is filed on or before March 17, 2025. If the Federal law that authorizes judicial review of a claim provides a time period of less than 150 days for filing such claim, then that shorter time period still applies.

FOR FURTHER INFORMATION CONTACT: Brandon Weston, Director of Environmental Services, UDOT Environmental Services, P.O. Box 148450, Salt Lake City, UT 84114; (801) 965-4603; email: brandonweston@utah.gov. UDOT's normal business hours are 8 a.m. to 5 p.m. (Mountain Time Zone), Monday through Friday, except State and Federal holidays.

SUPPLEMENTARY INFORMATION: The environmental review, consultation, and other actions required by applicable Federal environmental laws for this action are being, or have been, carried out by UDOT pursuant to 23 U.S.C. 327 and a Memorandum of Understanding (MOU) dated May 26, 2022, and executed by FHWA and UDOT. Actions taken by UDOT on FHWA's behalf pursuant to 23 U.S.C. 327 constitute Federal agency actions for purposes of Federal law. Notice is hereby given that UDOT has taken final agency actions subject to 23 U.S.C. 139(l)(1) by issuing licenses, permits, and approvals for the I-15; Farmington to Salt Lake City Project in the State of Utah.

The purpose of the I-15; Farmington to Salt Lake City Project is to improve safety, replace aging infrastructure, provide better mobility for all travel modes, strengthen the state and local economy, and better connect communities along I-15 from Farmington to Salt Lake City. The project purpose consists of the following objectives, which are organized by UDOT's Quality of Life Framework categories of Good Health, Connected Communities, Strong Economy, and Better Mobility. Improve Safety: Improve the safety and operations of the I-15 mainline, I-15 interchanges, bicyclist and pedestrian crossings, and connected roadway network. Better Connect Communities: Be consistent with planned land use, growth objectives, and transportation plans; and Support the planned FrontRunner Double Track projects and enhance access and connectivity to FrontRunner, to regional transit and trails, and across I-15. Strengthen the Economy: Replace aging infrastructure on I-15; and Enhance the economy by reducing travel delay on I-15. Improve Mobility for All Modes: Improve mobility and operations on the I-15 mainline, I-15 interchanges, connected roadway network, transit connections, and bicyclist and pedestrian facilities to help accommodate projected travel demand in 2050.

The primary alternatives carried forward for detailed study in this Environmental Impact Statement (EIS) are the No-action Alternative and the Action Alternative. The Action Alternative includes the following subarea options: Farmington—400 West Option and State Street Option; and Salt Lake City 1000 North—Northern Option and Southern Option. UDOT identified the Action Alternative as its preferred alternative in this Draft EIS. The selected alternative includes the Farmington 400 West Option, and the Salt Lake City 1000 North—Northern Option.

The project is identified in UDOT's adopted 2024-2029 State Transportation Improvement Program as project number 19854 with funding identified for final design and construction. The project is also included in the Wasatch Front Regional Council's (WFRC) 2023-2050 Wasatch Front Regional Transportation Plan approved in May 2023.

The actions by UDOT, and the laws under which such actions were taken, are described in the EIS and the ROD (Combined Final Environmental Impact Statement and Record of Decision for I-15; Farmington to Salt Lake City Project, in Davis and Salt Lake Counties, Utah, Project No. S-I15-7(369)309 approved on October 3, 2024, and other documents in the UDOT project records. The EIS and ROD is available for review at the UDOT Central Complex, 4501 South 2700 West, Salt Lake City, Utah. In addition, the EIS and ROD documents can be viewed and downloaded from the project website at https://i15eis.udot.utah.gov/. This notice applies to the EIS, the ROD, and all other UDOT and Federal agency decisions and other actions with respect to the project as of the issuance date of this notice and all laws under which such actions were taken, including but not limited to the following laws (including their implementing regulations):

1. General: National Environmental Policy Act [42 U.S.C. 4321-4351]; Federal-Aid Highway Act [23 U.S.C. 109 and 23 U.S.C. 128]; MAP-21, the Moving Ahead for Progress in the 21st Century Act [Pub. L. 112-141].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and section 1536], Fish and Wildlife Coordination Act [16 U.S.C. 661-667(d)]; Migratory Bird Treaty Act [16 U.S.C. 703-712]; The Bald and Golden Eagle Protection Act [16 U.S.C. 668].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (section 404, section 401, section 319) [33 U.S.C. 1251-1377]; Coastal Zone Management Act [16 U.S.C. 1451-1465]; Land and Water Conservation Fund (LWCF) [16 U.S.C. 4601-4604]; Safe Drinking Water Act (SDWA) [42 U.S.C. 300(f) -300(j)(6)]; Rivers and Harbors Act of 1899 [33 U.S.C. 401-406]; Emergency Wetlands Resources Act [16 U.S.C. 3921, 3931]; TEA-21 Wetlands Mitigation [23 U.S.C. 103(b)(6)(M, 133(b)(11)]; Flood Disaster Protection Act [42 U.S.C. 4001-4128].

8. Hazardous Materials: Comprehensive Environmental Response, Compensation, and Liability Act [42 U.S.C. 9601-9675]; Superfund Amendments and Reauthorization Act of 1986; Resource Conservation and Recovery Act [42 U.S.C. 6901-6992(k)].

9. Noise: Federal-Aid Highway Act of 1970, Public Law 91-605 [84 Stat. 1713]; [23 U.S.C. 109(h) & (i)].

10. Executive Orders: E.O. 11990 Protection of Wetlands; E.O. 11988 Floodplain Management; E.O. 12898, Federal Actions to Address Environmental Justice in Minority Populations and Low-Income Populations; E.O. 11593 Protection and Enhancement of Cultural Resources; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139 (l)(1).

Ivan Marrero,
Division Administrator, Federal Highway Administration, Salt Lake City, Utah.

[FR Doc. 2024-23820 Filed 10-15-24; 8:45 am]

BILLING CODE 4910-RY-P